DEPARTMENT OF COMMERCE

National Oceanic and Atmospheric Administration

Hydrographic Services Review Panel Meeting; Meeting Cancelled

AGENCY: Office of Coast Survey, National Ocean Service (NOS), National Oceanic and Atmospheric Administration (NOAA), Department of Commerce.

ACTION: Notice; cancellation of public meeting.

SUMMARY: On February 12, 2025, the National Oceanic and Atmospheric Administration published a notice in the Federal Register announcing a Hydrographic Services Review Panel public meeting to be held on March 4th and March 5th, 2025. This notice announces the cancellation of that public meeting.

FOR FURTHER INFORMATION CONTACT: Amanda Phelps, Acting NOAA HSRP Program Manager, email: hydroservices.panel@noaa.gov, phone: (240) 543-0266.

Authority: 33 U.S.C. 892 et seq.

Benjamin K. Evans,
Director, Office of Coast Survey, National Ocean Service, National Oceanic and Atmospheric Administration.

[FR Doc. 2025-03594 Filed 3-5-25; 8:45 am]

BILLING CODE 3510-G1-P